DEPARTMENT OF THE INTERIOR

National Park Service

[NPS-WASO-NAGPRA-18037; PPWOCRADN0-PCU00RP14.R50000]

Notice of Intent To Repatriate a Cultural Item: State Historical Society of Iowa, Des Moines, IA

AGENCY: National Park Service, Interior.

ACTION: Notice.

SUMMARY: The State Historical Society of Iowa, in consultation with the appropriate Indian tribes or Native Hawaiian organizations, has determined that the cultural item listed in this notice meets the definition of an object of cultural patrimony. Lineal descendants or representatives of any Indian tribe or Native Hawaiian organization not identified in this notice that wish to claim the cultural item should submit a written request to the State Historical Society of Iowa. If no additional claimants come forward, transfer of control of the cultural item to the lineal descendants, Indian tribes, or Native Hawaiian organizations stated in this notice may proceed.

DATES: Lineal descendants or representatives of any Indian tribe or Native Hawaiian organization not identified in this notice that wish to claim the cultural item should submit a written request with information in support of the claim to the State Historical Society of Iowa at the address in this notice by May 28, 2015.

ADDRESSES: Jerome Thompson, State Curator or NAGPRA Point of Contact, 600 East Locust, Des Moines, IA 50319, telephone (515) 281-4221, email jerome.thompson@iowa.gov.

SUPPLEMENTARY INFORMATION: Notice is here given in accordance with the Native American Graves Protection and Repatriation Act (NAGPRA), 25 U.S.C. 3005, of the intent to repatriate a cultural item under the control of the State Historical Society of Iowa, Des Moines, IA, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

At some time after April 13, 1931, the State Historical Society of Iowa purchased a grizzly bear claw necklace from Sam Slick, a member of the Meskwaki Tribe (Sac & Fox Tribe of the Mississippi in Iowa). Correspondence related to the purchase between curator Edgar R. Harlan and Sam Slick describe the necklace and its origin. The necklace was cataloged a B1729 and has been in control of the museum since 1931. The necklace is made of otter fur with thirty-one grizzly bear claws separated by glass beads. The otter fur is decorated with two heart-shaped and one square beaded applique.

During consultation, Johnathan Buffalo, Director of Historic Preservation, for the Sac & Fox Tribe of the Mississippi in Iowa, explained that several bear claw necklaces belonging to different clans were sold or otherwise left the tribe during the time period between 1920 and 1940. The necklaces were passed down in the families of the different clans and each clan held a position on the traditional tribal council. The tribe provided evidence that the necklace is an object of cultural patrimony having ongoing historical, traditional, or cultural importance to the tribe. The necklace is part of a group of necklaces that symbolizes tribal governance and is inalienable. Tribal member, Sam Slick, as an individual, did not have the right to sell the necklace.

Determinations Made by the State Historical Society of Iowa

Officials of the State Historical Society of Iowa have determined that:

• Pursuant to 25 U.S.C. 3001(3)(D), the single cultural item described above has ongoing historical, traditional, or cultural importance central to the Native American group or culture itself, rather than property owned by an individual.

• Pursuant to 25 U.S.C. 3001(2), there is a relationship of shared group identity that can be reasonably traced between the object of cultural patrimony and the Sac & Fox Tribe of the Mississippi in Iowa.

Additional Requestors and Disposition

Lineal descendants or representatives of any Indian tribe or Native Hawaiian organization not identified in this notice that wish to claim these cultural items should submit a written request with information in support of the claim to Jerome Thompson, State Curator or NAGPRA Point of Contact, 600 East Locust, Des Moines, IA 50319, telephone (515) 281-4221, email jerome.thompson@iowa.gov, by May 28, 2015. After that date, if no additional claimants have come forward, transfer of control of the object of cultural patrimony to the Sac & Fox Tribe of the Mississippi in Iowa may proceed

The State Historical Society of Iowa is responsible for notifying the Sac & Fox Tribe of the Mississippi in Iowa that this notice has been published.

Dated: April 2, 2015.
Mariah Soriano,
Acting Manager, National NAGPRA Program.

[FR Doc. 2015-09921 Filed 4-27-15; 8:45 am]

BILLING CODE 4312-50-P